FEDERAL MARITIME COMMISSION

Sunshine Act Meeting

AGENCY HOLDING THE MEETING: Federal Maritime Commission.

TIME AND DATE: January 15, 2014; 10:00 a.m.

PLACE: 800 N. Capitol Street NW., First Floor Hearing Room, Washington, DC.

STATUS: The meeting will be held in Closed Session.

MATTERS TO BE CONSIDERED:

Closed Session

1. Commission Interview of Applicants for the Position of Inspector General

CONTACT PERSON FOR MORE INFORMATION: Karen V. Gregory, Secretary, (202) 523-5725.

Karen V. Gregory,
Secretary.

[FR Doc. 2014-00562 Filed 1-10-14; 11:15 am]

BILLING CODE 6730-01-P